DEPARTMENT OF THE INTERIOR

Bureau of Land Management

[LLWO301000.L13400000.PQ0000.LXSIGEOT0000.15X]

Renewal of Approved Information Collection; OMB Control No. 1004-0034

AGENCY: Bureau of Land Management, Interior.

ACTION: 30-day notice and request for comments.

SUMMARY: The Bureau of Land Management (BLM) has submitted an information collection request to the Office of Management and Budget (OMB) to continue the collection of information about transfers and assignments of leases for oil, gas, and geothermal resources. The Office of Management and Budget (OMB) has assigned control number 1004-0034 to this information collection.

DATES: The OMB is required to respond to this information collection request within 60 days but may respond after 30 days. For maximum consideration, written comments should be received on or before July 6, 2015.

ADDRESSES: Please submit comments directly to the Desk Officer for the Department of the Interior (OMB #1004-0034), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street, NW., Room 2134LM, Attention: Jean Sonneman, Washington, DC 20240.

Fax: to Jean Sonneman at 202-245-0050.

Electronic mail: Jean_Sonneman@blm.gov.

Please indicate “Attn: 1004-0034” regardless of the form of your comments.

FOR FURTHER INFORMATION CONTACT: Jennifer Spencer at 202-912-7146 (oil and gas) or Lorenzo Trimble at 775-861-6567 (geothermal resources). Persons who use a telecommunication device for the deaf may call the Federal Information Relay Service at 1-800-877-8339, to leave a message for Ms. Spencer or Mr. Trimble. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on January 8, 2015 (80 FR 1047), and the comment period ended March 9, 2015. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0034 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Oil, Gas, and Geothermal Resources: Transfers and Assignments.

OMB Control Number: 1004-0034.

Summary: When a holder of a Federal lease for oil, gas, or geothermal resources assigns the lease or transfers the operating rights, the BLM must collect information about that transaction. Each assignment or transfer is a contract between private parties but must be approved by the BLM under the relevant statutory authority.

Frequency of Collection: On occasion.

Forms:

• Form 3000-3, Assignment of Record Title Interest in a Lease for Oil and Gas or Geothermal Resources; and

• Form 3000-3a, Transfer of Operating Rights (Sublease) in a Lease for Oil and Gas or Geothermal Resources.

Description of Respondents: Lessees who want to assign record title interest or transfer operating rights in a Federal lease for oil and gas or geothermal resources.

Estimated Annual Responses: 14,041.

Estimated Annual Burden Hours: 7,020.5.

Estimated Annual Non-Hour Costs: $1,263,690.

The estimated annual burdens are itemized in the following table:

A. Type of response | B. Number of responses | C. Time per response | D. Total time (Column B × Column C)
Assignment of Record Title Interest/Oil and Gas Leases, 43 CFR 3106.4-1, Form 3000-3 | 6,316 | 30 minutes | 3,158 hours.
Assignment of Record Title Interest/Geothermal Resources, 43 CFR 3216.14, Form 3000-3 | 28 | 30 minutes | 14 hours.
Transfer of Operating Rights/Oil and Gas Leases, 43 CFR 3106.4-1, Form 3000-3a | 7,696 | 30 minutes | 3,848 hours.
Transfer of Operating Rights/Geothermal Resources, 43 CFR 3216.14, Form 3000-3a | 1 | 30 minutes | 30 minutes.
Totals | 14,041 |  | 7,020.5 hours.

Jean Sonneman,
Bureau of Land Management, Information Collection Clearance Officer.

[FR Doc. 2015-13415 Filed 6-2-15; 8:45 am]

BILLING CODE 4310-84-P